NUCLEAR REGULATORY COMMISSION

[Docket No. 030-05004]

Notice of Consideration of Amendment Request to Decommission Northern States Power Company D.B.A. Xcel Energy Pathfinder Site at Sioux Falls, SD, and Opportunity To Provide Comments and Request a Hearing; Correction

AGENCY: Nuclear Regulatory Commission.

ACTION: Notice of a license amendment request and opportunity to provide public comments and request a hearing. Notice of public meeting; correction.

SUMMARY: This document corrects a notice appearing in the Federal Register on August 4, 2004 (69 FR 47185), to request the decommission of Northern States Power Company D.B.A. Xcel Energy Pathfinder Site at Sioux Falls, South Dakota, and opportunity to provide comments and request a hearing. This action is necessary to add contact information that was previously omitted.

EFFECTIVE DATE: August 11, 2004.

FOR FURTHER INFORMATION CONTACT: Chad Glenn, Project Manager, Decommissioning Directorate, Division of Waste Management and Environmental Protection, Office of Nuclear Material Safety and Safeguards, U.S. Nuclear Regulatory Commission, Washington, DC 20555-0001; telephone (301) 415-6722; fax (301) 415-5398; or e-mail at cjg1@nrc.gov.

SUPPLEMENTARY INFORMATION: On page 47186, center column, the fourth complete paragraph, remove “[Insert Contact and Contact Information]” and insert “Bruce Colt, Xcel Energy, Suite 2900, 800 Nicollet Mall, Minneapolis, NM 55402”.

Dated at Rockville, Maryland, this 5th day of August 2004.
For the Nuclear Regulatory Commission.
Chad Glenn,
Project Manager, Office of Nuclear Material Safety and Safeguards.

[FR Doc. 04-18312 Filed 8-10-04; 8:45 am]

BILLING CODE 7590-01-P